NUCLEAR REGULATORY COMMISSION

[Docket No. 72-16; NRC-2014-0154]

Virginia Electric and Power Company (Dominion); North Anna Independent Spent Fuel Storage Installation

AGENCY: Nuclear Regulatory Commission.

ACTION: License amendment application; issuance.

SUMMARY: The U.S. Nuclear Regulatory Commission (NRC) reviewed an application by Virginia Electric and Power Company (Dominion) for an amendment of Special Nuclear Materials License No. SNM-2507, which authorizes Dominion to receive, possess, store, and transfer spent nuclear fuel and associated radioactive materials at the North Anna (NA) independent spent fuel storage installation (ISFSI). The requested amendment would allow the TN-32 casks to remain in their current positions subsequent to their movement during the August 23, 2011, seismic event that affected the NA ISFSI.

DATES: August 12, 2015.

ADDRESSES: Please refer to Docket ID NRC-2014-0154 when contacting the NRC about the availability of information regarding this document. You may obtain publicly-available information related to this document by using any of the following methods:

• Federal Rulemaking Web site: Go to http://www.regulations.gov and search for Docket ID NRC-2014-0154. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The NA License Amendment Request No. 4 package is available electronically in ADAMS under Accession No. ML15050A395.

• NRC's PDR: You may examine and purchase copies of public documents at the NRC's PDR, Room O1-F21, One White Flint North, 11555 Rockville Pike, Rockville, Maryland 20852.

FOR FURTHER INFORMATION CONTACT: Pamela Longmire, Office of Nuclear Material Safety and Safeguards, U.S. Nuclear Regulatory Commission, Washington, DC 20555-0001; telephone: 301-415-7465; email: Pamela.Longmire@nrc.gov.

SUPPLEMENTARY INFORMATION: On May 27, 2014 (ADAMS Accession No. ML14160A707), as supplemented November 7, 2014 (ADAMS Accession No. ML14317A086), Dominion submitted to the NRC a request for a license amendment in accordance with section 72.56 of Title 10 of the Code of Federal Regulations (10 CFR), “Application for amendment of license.” The requested amendment would permit the TN-32 casks to remain in their current positions subsequent to their movement during the August 23, 2011, seismic event that affected the NA ISFSI.

Pursuant to 10 CFR 72.46, the NRC has docketed, approved and issued Amendment No. 4 to Special Nuclear Materials License No. SNM-2507, held by Dominion to receive, possess, store, and transfer spent nuclear fuel and associated radioactive materials resulting from the operation of the NA power station in an ISFSI at the power plant site for a term of 20 years. Amendment No. 4 is effective as of the date of issuance.

Amendment No. 4 complies with the standards and requirements of the Atomic Energy Act of 1954 (Act), as amended, and the Commission's rules and regulations. The Commission has made appropriate findings, as required by the Act and the Commission's rules and regulations in 10 CFR Chapter 1, which are set forth in Amendment No. 4.

The NRC issued a letter dated July 9, 2014 (ADAMS Accession No. ML14190A179), notifying Dominion that the application was acceptable for review. In accordance with 10 CFR 72.16, a Notice of Docketing was published in the Federal Register on July 22, 2014 (79 FR 42557). The Notice of Docketing included an opportunity to request a hearing and to petition for leave to intervene. No requests for a hearing or leave to intervene were submitted.

The NRC prepared a safety evaluation report (SER) (ADAMS Accession No. ML15050A428) to document its review and evaluation of the amendment request. Also in connection with this action, the Commission prepared an Environmental Assessment (EA) (ADAMS Accession No. ML15022A575) and a Finding of No Significant Impact (FONSI) (ADAMS Accession No. ML15026A683). The Notice of Availability of the EA and FONSI for the NA ISFSI was published in the Federal Register on February 27, 2015 (80 FR 10726).

As required by the Act and the NRC's rules and regulations in 10 CFR Chapter 1, the staff made the appropriate findings which are contained in the SER. The NRC approved and issued Amendment No. 4 to SNM-2507, held by Dominion for the receipt, possession, transfer, and storage of spent fuel and associated radioactive materials at the NA ISFSI. Pursuant to 10 CFR 72.46(d), the NRC is providing notice of the action taken. Amendment No. 4 was effective as of the date of issuance, August 3, 2015.

Dated at Rockville, Maryland, this 3rd day of August, 2015.
For the Nuclear Regulatory Commission.
Michele Sampson,
Chief, Licensing Branch, Division of Spent Fuel Management, Office of Nuclear Material Safety and Safeguards.

[FR Doc. 2015-19807 Filed 8-11-15; 8:45 am]

BILLING CODE 7590-01-P